DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by October 15, 2004.

ADDRESSES: Documents and other information submitted with these applications are available for review, subject to the requirements of the Privacy Act and Freedom of Information Act, by any party who submits a written request for a copy of such documents to the following office within 30 days of the date of publication of this notice: Fish and Wildlife Service, 1875 Century Boulevard, Ste 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered species. If you wish to comment, you may submit comments by any one of the following methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Abyss Marine Technologies, Huntsville, Alabama, TE092868-0.

The applicant requests authorization to take (capture, identify, photograph, temporarily hold, tag, translocate, and release) the following species: Cumberland elktoe (Alasmidonta atropurpurea), Appalachian elktoe (Alasmidonta raveneliana), fat three-ridge (Amblema neislerii), birdwing pearlymussel (Conradilla caelata), fanshell (Cyprogenia stegaria (=irroata)), dromedary pearlymussel (Dromus dromas), Cumberlandian combshell (Epioblasma brevidens), oyster mussel (Epioblasma capsaeformis), yellow blossom (Epioblasma florentina florentina), tan riffleshell (Epioblasma florentina walkeri), upland combshell (Epioblasma metastriata), catspaw (Epioblasma obliquata obliquata), southern acornshell (Epioblasma othcaloogensis), southern combshell (Epioblasma penita), green blossom (Epioblasma torulosa gubernaculum), northern riffleshell (Epioblasma torulosa rangiana), Tubercled blossom (Epioblasma torulosa torulosa), shiny pigtoe (Fusconaia cor (=edgariana)), fine-rayed pigtoe (Fusconaia cuneolus), cracking pearlymussel (Hemistena lata), pink mucket (Lampsilis abrupta (=orbiculata)), shinyrayed pocketbook (Lampsilis subangulata), Alabama lampmussel (Lampsilis virescens), birdwing pearlymussel (Conradilla caelata), gulf moccasinshell (Medionidus penicillatus), Ochlockonee moccasinshell (Medionidus simpsonianus), Coosa moccasinshell (Medionidus parvulus), ringpink (Obovaria retusa), little-wing pearlymussel (Pegias fabula), white wartyback (Plethobasus cicatricosus), orangefoot pimpleback (Plethobasus cooperianus), clubshell (Pleurobema clava), black clubshell (Pleurobema curtum), southern clubshell (Pleurobema decisum), dark pigtoe (Pleurobema furvum), southern pigtoe (Pleurobema georgianum), Cumberland pigtoe (Pleurobema gibberum), flat pigtoe (Pleurobema marshallii), ovate clubshell (Pleurobema perovatum), rough pigtoe (Pleurobema plenum), oval pigtoe (Pleurobema pyriforme), heavy pigtoe (Pleurobema taitianum), fat pocketbook (Potamilus capax), triangular kidneyshell (Ptychobranchus greeni), rough rabbitsfoot (Quadrula cylindrica strigillata), winged mapleleaf (Quadrula fragosa), Cumberland monkeyface (Quadrula intermedia), Appalachian monkeyface (Quadrula sparsa), stirrupshell (Quadrula stapes), pale lilliput (Toxolasma cylindrellus), purple bean (Villosa perpurpurea), Cumberland bean (Villosa trabalis), Chipola slabshell (Elliptio chipolaensis), purple bankclimber (Elliptoideus sloatianus), finelined pocketbook (Lampsilis altilis), orangenacre mucket (Lampsilis perovalis), Alabama moccasinshell (Medionidus acutissimus), Alabama heelsplitter (Potamilus inflatus), Nashville crayfish (Orconectes shoupi), Squirrel Chimney cave shrimp (Palaemonetes cummingi), Alabama cave shrimp (Palaemonias alabamae), Kentucky cave shrimp (Palaemonias ganteri), Alabama cavefish (Speoplatyrhinus poulsoni), boulder darter (Etheostoma wapiti), vermillion darter (Etheostoma chermocki), watercrest darter (Etheostoma nuchale), Cahaba shiner (Notropis cahabae), palezone shiner (Notropis albizonatus), Alabama sturgeon (Scaphirhynchus suttkusi), blue shiner (Cyprinella caerulea), slackwater darter (Etheostoma boschungi), goldline darter (Percina aurolineata), snail darter (Percina tanasi), American crocodile (Crocodylus acutus), yellow-blotched map turtle (Graptemys flavimaculata), ringed map turtle (Graptemys oculifera), Alabama red-belly turtle (Pseudemys alabamensis), bog turtle (Clemmys muhlenbergii), and flattened musk turtle (Sternotherus depressus). The proposed activities would take place while conducting presence/absence surveys, population counting, and translocation activities throughout the species ranges in Alabama, Florida, Georgia, Kentucky, Mississippi, and Tennessee.

Applicant: Warren Scott Hall, The Advent Group, Brentwood, Tennessee, TE092860-0.

The applicant requests authorization to take (capture, identify, translocate, release) the Nashville crayfish (Orconectes shoupi) while conducting presence/absence surveys and relocation activities in relation to proposed construction activities. The proposed activities would occur in the Mill Creek drainage basin in Davidson and Williamson Counties, Tennessee.

Applicant: Marine Corps Base Camp Lajeune, John R. Townson, Camp Lejeune, North Carolina, TE091699-0.

The applicant requests authorization to take (capture, band, translocate, release, and monitor nests) of the red-cockaded woodpecker (Picoides borealis) while conducting population monitoring and management activities. The proposed activities would be carried out on Marine Corps Base Camp Lejeune, Onslow County, North Carolina.

Applicant: Samuel Mason Van Hook, II, Kissimmee Valley Forester, Babson Park, Florida, TE092854-0.

The applicant requests authorization to take (harass) red-cockaded woodpeckers (Picoides borealis) while installing insert boxes in Kenansville, Osceola County, Florida.

Applicant: McGuire Center/University of Florida, Thomas C. Emmel, Gainesville, Florida, TE092891-0.

The applicant requests authorization to take (capture, mark, release, recapture) Schaus' swallowtail (Papilio aristodemus ponceanus) while conducting population monitoring. The proposed activities would take place in the Florida Keys and South Florida mainland.

Applicant: The Nature Conservancy, Brain P. Van Eerden, Charlotteville, Virginia, TE092887-0.

The applicant requests authorization to harass the red-cockaded woodpecker (Picoides borealis) while installing restrictor plates on cavities and while installing artificial cavities. The proposed activities would take place on the Piney Grove Preserve, Sussex County, Virginia.

Applicant: Lewis & Associates LLC, Julian J. Lewis, Borden, Indiana, TE091701-0.

The applicant requests authorization to take (harass) the Kentucky cave shrimp (Palaemonias ganteri) while conducting presence/absence surveys. The proposed activities would occur in Graham Springs Groundwater Basin, Warren County, Kentucky.

Applicant: Dr. David H. Nelson, University of South Alabama, Mobile, Alabama, TE091704-0.

The applicant requests authorization to take (capture, identify, release) the Alabama red-bellied turtle (Pseudemys alabamensis), loggerhead sea turtle (Caretta caretta), and gopher tortoise (Gopherus polyphemus) while conducting scientific ecological research. The proposed activities would occur in Mobile and Baldwin Counties, Alabama.

Applicant: Dr. Jeanette Wyneken, Florida Atlantic University, Boca Raton, Florida, TE092912-0.

The applicant requests authorization to take (capture, transport, hold in captivity, release) the leatherback sea turtle (Dermochelys coriacea) while conducting laboratory experiments to characterize the behavioral responses to simulate longline gear. The activities would take place in Palm Beach County and Boca Raton, Florida (Biology Department of Florida Atlantic University) and will be released at sea when the study is complete.

Applicant: Florida Power & Light Company, Turkey Point Power Plant, Juno Beach, Florida, TE092945-0.

The applicant requests authorization to take (capture, mark, recapture, insert chips in the tail, insert Hobotemp dataloggers in the interior and exterior of nests, take scute samples) the American crocodile (Crocodylus acutus) while conducting management activities. The proposed activities would take place at Florida Power & Light Turkey Point Power Plant cooling canals, Dade County, Florida.

Dated: August 31, 2004.
Cynthia K. Dohner,
Deputy Regional Director, Southeast Region.

[FR Doc. 04-20773 Filed 9-14-04; 8:45 am]

BILLING CODE 4310-55-P